ENVIRONMENTAL PROTECTION AGENCY

40 CFR Parts 30, 31, 33, 35 and 40

[Docket ID No. OA-2002-0001; FRL-7620-7]

RIN 2020-AA39

Public Hearings on Participation by Disadvantaged Business Enterprises in Procurement Under Environmental Protection Agency (EPA) Financial Assistance Agreements

AGENCY: Environmental Protection Agency (EPA).

ACTION: Proposed rule; comment period reopening; public hearing.

SUMMARY: EPA published its proposed rule for Participation by Disadvantaged Business Enterprises in Procurement under Environmental Protection Agency (EPA) Financial Assistance Agreements on July 24, 2003 at 68 FR 43824. In response to requests to increase the proposed rule comment period, EPA finds it appropriate to extend the comment period an additional 45 days beyond the January 20, 2004 date previously in effect. All interested parties are notified that the comment period of this public notice is hereby reopened until March 4, 2004.

This document also announces the date and location of a Tribal hearing wherein EPA will take comments on its proposed rule for “Participation by Disadvantaged Business Enterprises in Procurement under Environmental Protection Agency (EPA) Financial Assistance Agreements.”

DATES: Comments are reopened until March 4, 2004. The Tribal hearing will be held on February 10, 2004, 3:30 pm to 4:45 pm.

ADDRESSES: Comments must be submitted to:

1. Electronically—EPA Dockets at http://www.epa.gov/edoctket. Please follow online instructions for submitting comments and reference Docket ID No. OA-2002-0001;

2. By Mail—Office of Environmental Information Docket, Environmental Protection Agency, Mailcode 28221T, 1200 Pennsylvania Ave., NW., Washington, DC 20460, Attention Docket ID No. OA-2002-0001; or

3. By Hand Delivery or Courier—EPA Docket Center, EPA West, Room B102, 1301 Constitution Ave., NW., Washington, DC, Attention Docket ID No. OA-2002-0001.

The Tribal hearing will be held at: Anchorage Egan Convention Center, 555 West Fifth Avenue, Anchorage, AK 99501.

FOR FURTHER INFORMATION CONTACT: Kimberly Patrick, Attorney Advisor, at (202) 564-5386, or David Sutton, Deputy Director at (202) 564-4444, Office of Small and Disadvantaged Business Utilization, U.S. Environmental Protection Agency, Mail Code 1230A, Ariel Rios Building, 1200 Pennsylvania Avenue, NW., Washington, DC 20460.

SUPPLEMENTARY INFORMATION: EPA published its proposed rule for Participation by Disadvantaged Business Enterprises in Procurement under Environmental Protection Agency (EPA) Financial Assistance Agreements on July 24, 2003 at 68 FR 43824. EPA has established an official public docket for this action under Docket ID No. OA-2002-0001. The proposed rule and supporting materials are available for public viewing at the Office of Environmental Information Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information is (202) 566-1752. An electronic version of public docket is available through EPA's electronic public docket and comment systems, EPA Dockets. You may use EPA Dockets at http://www.epa.gov/edocket to submit or view public comments, access the index listing of the contents of the official public docket, and to access those documents in the public docket that are available electronically. Once in the system, select “search,” and then key in docket identification number OA-2002-0001. You may access this Federal Register document electronically through the EPA Internet under the “Federal Register” listings at http://www.epa.gov/fedrgstr.

Dated: February 5, 2004.
Thomas J. Gibson,
Chief of Staff.

[FR Doc. 04-2957 Filed 2-10-04; 8:45 am]

BILLING CODE 6560-50-U